ENVIRONMENTAL PROTECTION AGENCY

40 CFR Part 49

[EPA-R09-OAR-2010-0683; FRL-9225-1]

Source Specific Federal Implementation Plan for Implementing Best Available Retrofit Technology for Four Corners Power Plant: Navajo Nation

AGENCY: Environmental Protection Agency.

ACTION: Notice of public hearings.

SUMMARY: On October 6, 2010, the Environmental Protection Agency (EPA) signed a proposal to promulgate a source specific Federal Implementation Plan (FIP) requiring the Four Corners Power Plant (FCPP), located on the Navajo Nation, to achieve emissions reductions required by the Clean Air Act's Best Available Retrofit Technology (BART) provision. The proposal was published in the Federal Register on October 19, 2010 (75 FR 64221). Given the significant public interest in this source specific FIP and to further public participation opportunities, EPA has scheduled three open houses and public hearings. These open houses and public hearings will occur in Shiprock, New Mexico on December 7, 2010, Farmington, New Mexico on December 8, 2010, and Durango, Colorado on December 9, 2010. More information on the locations is provided in SUPPLEMENTARY INFORMATION.

DATES: The hearings will occur in Shiprock, New Mexico on December 7, 2010, Farmington, New Mexico, on December 8, 2010, and Durango, Colorado on December 9, 2010.

ADDRESSES: The open houses and public hearings will be held at the following locations: Shiprock, New Mexico—December 7, 2010, Phil L. Thomas Performing Arts Center, Highway 64 West, Shiprock, New Mexico 87420, (505) 368-2490; Farmington, New Mexico—December 8, 2010, San Juan College Henderson Fine Arts Building Rooms 9006 and 9008, Farmington, New Mexico, 97402, (505) 326-3311; and Durango, Colorado—December 9, 2010, Double Tree Hotel, Mesa Verde La Plata Room, 501 Camino Del Rio, Durango, Colorado, 81301, (970) 259-6580.

The open houses will begin at 3 p.m. and end at 5 p.m., local time. The public hearings will begin at 6 p.m. and end at 9 p.m. or later, if necessary, depending on the number of speakers wishing to participate.

FOR FURTHER INFORMATION CONTACT: If you have questions concerning the public hearings please contact Anita Lee, EPA Region IX, (415) 972-3958, r9air_fcppbart@epa.gov. If you require a reasonable accommodation, please contact Terisa Williams, EPA Region 9 Reasonable Accommodations Coordinator, by Friday, November 18, 2010, at (415) 972-3829, or Williams.Terisa@epa.gov.

SUPPLEMENTARY INFORMATION: The public hearings will provide interested parties the opportunity to present views or arguments concerning the proposed FIP. Written statements and supporting information submitted during the comment period will be considered with the same weight as any oral comments and supporting information presented at the public hearings. Written comments must be postmarked on or before the last day of the comment period, December 20, 2010. EPA will not respond to comments during the public hearing. When we publish our final action, we will provide written responses to all oral and written comments received on our proposal. To provide opportunities for questions and discussion, EPA will hold open houses prior to the public hearings. During these open houses, EPA staff will be available to informally answer questions on our proposed action. Any comments made to EPA staff during the open houses must still be provided formally in writing or orally during the public hearing in order to be considered in the record.

Oral testimony may be limited to 5 minutes for each commenter to address the proposal. We will not be providing equipment for commenters to show overhead slides or make computerized slide presentations. Any person may provide written or oral comments, in English or Dine, and data pertaining to our proposal at the Public Hearing. English-Dine translation services will be provided at both the Open Houses and the Public Hearings in Shiprock and Farmington. English-Dine translation services will not be provided at the Durango Open House and Public Hearing unless it is requested by November 18, 2010. Verbatim transcripts, in English, of the hearings and written statements will be included in the rulemaking docket.

The proposed rule was published in the Federal Register on October 19, 2010 (75 FR 64221) and can be accessed the following Web site: http://www.epa.gov/region9/airnavajo/index.html#proposed. EPA has established a public docket for the proposed rulemaking under the docket number EPA-R09-OAR-2010-0683.

If you are unable to attend the public hearings but wish to submit written comments on the proposed rule, you may submit comments, identified by docket number EPA-R09-OAR-2010-0683, by one of the following methods:

Federal eRulemaking Portal: http://www.regulations.gov. Follow the on-line instructions for submitting comments.

E-mail: r9air_fcppbart@epa.gov.

Mail or deliver: Anita Lee (Air-3), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). Due to building security procedures, to inspect the hard copy materials, please schedule an appointment at least 24 hours in advance during normal business hours with the contact listed in the FOR FURTHER INFORMATION CONTACT section.

Dated: November 2, 2010.
Deborah Jordan,
Air Division Director, Region IX.

[FR Doc. 2010-28498 Filed 11-10-10; 8:45 am]

BILLING CODE 6560-50-P